DEPARTMENT OF LABOR

Employment and Training Administration

[TA-W-56,769]

Magnetic Specialty, Inc.; Marietta, OH; Notice of Termination of Investigation

Pursuant to Section 221 of the Trade Act of 1974, as amended, an investigation was initiated on March 16, 2005 in response to a worker petition filed by a company official on behalf of workers at Magnetic Specialty, Inc., Marietta, Ohio.

The petitioner has requested that the petition be withdrawn. Consequently, further investigation would serve no purpose and the investigation has been terminated.

Signed at Washington, DC this 25th day of April, 2005.
Elliott S. Kushner,
Certifying Officer, Division of Trade Adjustment Assistance.

[FR Doc. E5-2429 Filed 5-13-05; 8:45 am]

BILLING CODE 4510-30-P